DEPARTMENT OF HOUSING AND URBAN DEVELOPMENT

[Docket No. FR-5681-N-13]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 2261 Hughes Avenue, Suite 156, Lackland AFB, TX 78236-9852, (210)-395-9512; Army: Ms. Veronica Rines, Office of the Assistant Chief of Staff for Installation Management, Department of Army, Room 5A128, 600 Army Pentagon, Washington, DC 20310, (571)-256-8145; Energy: Mr. Mark C. Price, Department of Energy, Office of Engineering & Construction Management, OECM MA-50, 4B122, 1000 Independence Avenue SW., Washington, DC 20585, (202)-586-5422; (These are not toll-free numbers).

Dated: March 21, 2013.
Mark Johnston,
Deputy Assistant Secretary for Special Needs.

TITLE V, FEDERAL SURPLUS PROPERTY PROGRAM

FEDERAL REGISTER REPORT FOR 03/29/2013

Suitable/Available Properties

Building

Alaska

12 Buildings

Eielson AFB

Eielson AK 99702

Landholding Agency: Air Force

Property Number: 18201240003

Status: Unutilized

Directions: 1120, 1121, 1161, 1190, 1300, 4305, 6131, 6398, 1302, 1191, 5281, 3108

Comments: off-site removal only; sf varies; secured area; contact AF for info. on a specific property & accessibility/removal requirements

9 Buildings

JBER-E

Anchorage AK 99506

Landholding Agency: Air Force

Property Number: 18201240030

Status: Unutilized

Directions: 5374, 59122, 59348, 76520, 16519, 16521, 9570, 7179, 8197

Comments: off-site removal only; sf. varies; moderate conditions; restricted area; contact AF for more info. on a specific property & accessibility/removal requirements

4 Buildings

JBER

JBER AK 99506

Landholding Agency: Air Force

Property Number: 18201310014

Status: Unutilized

Directions: 10449, 27369, 33855, 35750

Comments: off-site removal only; sf. varies; moderate conditions; restricted area; contact AF for more info. on a specific property & accessibility/removal reqs.

Building 6260

Arctic Warrior Dr.

JBER AK 99506

Landholding Agency: Air Force

Property Number: 18201310015

Status: Unutilized

Comments: off-site removal only; 75,720 sf.; Admin./Storage; moderate conditions; restricted area; contact AF for info. on accessibility/removal reqs.

3 Buildings

Gibson Ave.

JBER AK 99506

Landholding Agency: Air Force

Property Number: 18201310016

Status: Unutilized

Directions: 6252, 6257, 7263

Comments: off-site removal only; sf. varies; storage; moderate conditions; restricted area; contact AF for more info. on a specific property & accessibility/removal reqs.

2 Buildings

Industrial Ave.

Eielson AFB AK 99702

Landholding Agency: Air Force

Property Number: 18201310030

Status: Unutilized

Directions: 6213, 6214

Comments: off-site removal only; sf. varies; major repairs needed; contact AF for more info. on a specific property & accessibility/removal reqs.

8 Buildings

Wainwright Short Range Radar Site

Wainwright AK 99782

Landholding Agency: Air Force

Property Number: 18201310036

Status: Unutilized

Directions: 1, 2, 3, 12, 13, 100, 101, 105

Comments: sf. varies; very poor conditions; remote area; contact AF for info. on a specific property listed above

California

Building 1028

19338 North St.

Beale CA 95903

Landholding Agency: Air Force

Property Number: 18201240009

Status: Unutilized

Comments: 178 sf.; storage; poor conditions; asbestos & lead; restricted area; contact AF for info. on accessibility requirements

Building 2153

6900 Warren Shingle

Beale AFB CA 95903

Landholding Agency: Air Force

Property Number: 18201240010

Status: Unutilized

Comments: 4,000 sf.; storage; very poor conditions; asbestos & lead possible; restricted area; contact AF for info. on accessibility requirements

Former Mather AFB

Former Mather AFB

Rancho Cordova CA 95655

Landholding Agency: Air Force

Property Number: 18201310064

Status: Excess

Directions: includes five bldgs. and land; bldgs. #: 1703, 1705, 1706, 1707, 1708

Comments: previously reported in 1992; total sf.: 191,446; sits on 15 acres; used for: residential; good condition

7 Buildings

Lawrence Berkeley Lab

Berkeley CA 94720

Landholding Agency: Energy

Property Number: 41201310002

Status: Excess

Directions: 4, 7, 7-C, 14, 16, 16-A, 5

Comments: sf. varies; office; deteriorated; contamination; remediation needed; restricted area; contact Energy for info. on a specific property & accessibility

Colorado

Building 300

Buckley AFB

Aurora CO 80011

Landholding Agency: Air Force

Property Number: 18201230016

Status: Unutilized

Comments: off-site removal only; 1414 sf.; jet fuel labs; roof has collapse & needs to be replaced; restricted area; contact AF for details on accessibility/removal

Building 66072

Military Housing

Colorado Springs CO

Landholding Agency: Air Force

Property Number: 18201310028

Status: Unutilized

Comments: 5,017 sf.; vacant; roof repairs needed

Florida

Building 5002

6801 Hwy 98

Tyndall AFB FL 32403

Landholding Agency: Air Force

Property Number: 18201310010

Status: Unutilized

Comments: 151 sf.; water pump station; 6 mons. vacant; major repairs; restricted area; contact AF for info. on accessibility reqs.

Georgia

Building 1134

Veterans Pkwy

Ft. Stewart GA 31314

Landholding Agency: Army

Property Number: 21201310027

Status: Excess

Comments:

CORRECTION: published on 03/08/2013 incorrectly as `land'; off-site removal only; 513sf. Admin. poor conditions; asbestos; w/in secured area; Gov't escort only to access/remove property

Idaho

38 Buildings

Aspen & LodgePole

Mountain Home ID 83648

Landholding Agency: Air Force

Property Number: 18201230034

Status: Underutilized

Directions: 5001-5013, 5015, 5019-5023, 5025, 5027, 5029, 5031-5033, 5035-5041, 5043, 5101, 5103, 5105, 5107, 5109

Comments: off-site removal only; sf. varies; military housing; minor repairs/renovations needed; asbestos & lead present; restricted area; contact AF for info. on accessibility/removal reqs.

38 Buildings

LodgePole & Cottonwood

Mountain Home ID 83648

Landholding Agency: Air Force

Property Number: 18201230035

Status: Underutilized

Directions: 5110-5121, 5123, 5125, 5127-5132, 5134, 5137, 5139, 5141, 5144-5146, 5150, 5152-5161

Comments: off-site removal only; sf. varies; military housing; minor repairs/renovations needed; asbestos & lead present; restricted area; contact AF for info. on accessibility/removal reqs.

37 Buildings

Cottonwood & Sage

Mountain Home ID 83648

Landholding Agency: Air Force

Property Number: 18201230036

Status: Underutilized

Directions: 5162-5164, 5166, 5168, 5170, 5201-5208, 5210, 5212, 5214-5219, 5221, 5223, 5225-5229, 5231, 5233, 5235-5240

Comments: off-site removal only; sf. varies; military housing; minor repairs/renovations needed; asbestos & lead present; restricted area; contact AF for info. on accessibility/removal reqs.

38 Buildings

Sage, Beech, & Hickory

Mountain Home ID 83648

Landholding Agency: Air Force

Property Number: 18201230037

Status: Underutilized

Directions: 5241, 5243, 5245-5247, 5249, 5251, 5253-5255, 5257, 5259-5261, 5263, 5265, 5268, 5302-5303, 5305-5313, 5315, 5317, 5319-5323, 5323, 5327

Comments: off-site removal only; sf. varies; military housing; minor repairs/renovations needed; asbestos & lead present; restricted area; contact AF for info. on accessibility/removal reqs.

38 Buildings

Hickory & Pinon

Mountain Home ID 83648

Landholding Agency: Air Force

Property Number: 18201230038

Status: Underutilized

Directions: 5329-5333, 5335, 5337, 5339, 5341-5349, 5351, 5353, 5355-5359, 5361, 5363-5367, 5370-5377

Comments: off-site removal only; sf. varies; military housing; minor repairs/renovations needed; asbestos & lead present; restricted area; contact AF for info. on accessibility/removal reqs.

26 Buildings

Mountain Home AFB

Mountain Home ID 83648

Landholding Agency: Air Force

Property Number: 18201230041

Status: Underutilized

Directions: 45000, 45004, 45007, 45008, 45011, 45012, 45015, 45019, 45022, 45023, 45027, 45031, 45035, 45036, 45039, 45040, 45043, 45103, 45107, 45111, 45112, 45115, 45116, 45119, 45120, 45123

Comments: off-site removal only; 780 sf. for ea.parking; minor repairs/renovations needed; restricted area; contact AF for info. on accessibility/removals reqs.

74 Buildings

Mountain Home AFB

Mountain Home ID 83648

Landholding Agency: Air Force

Property Number: 18201230042

Status: Underutilized

Directions: 45127, 45130, 45131, 45134, 45135, 45139, 45143, 45146, 45147, 45152, 45156, 45159, 45160, 45163, 45164, 46168, 45172, 45203, 45204, 45207, 45208, 45212, 45216, 45217, 45220, 45221, 45225, 45228, 45229, 45233, 45237, 45238, 45241, 45242, 45245, 45249, 45253, 45254, 45257, 45261, 45264, 45265, 45268, 45272, 45272, 45305, 45308, 45309, 45312, 45313, 45317, 45321, 45322, 45325, 45329, 45332, 45333, 45337, 45341, 45344, 45345, 45348, 45349, 45353, 45357, 45358, 45361, 45365, 45366, 45367, 45372, 45373, 45376, 45377

Comments: off-site removal only; 780 sf. for ea. parking; minor repairs/renovations needed; restricted area; contact AF for info. on accessibility/removals reqs.

Illinois

Bldg. 500

Plum Hill MARS

Belleville IL 62221

Landholding Agency: Air Force

Property Number: 18201220035

Status: Unutilized

Comments: 3,519 sf.; communication facility; no utilities; possible ground contamination; need repairs and remediation

Massachusetts

3 Buildings

Hudson Rd.

Sudbury MA

Landholding Agency: Air Force

Property Number: 18201310026

Status: Excess

Directions: 01, 04, 05

Comments: sf. varies; lab; fair conditions; restricted area; contact AF for info. on accessibility reqs.

Michigan

3 Buildings

Selfridge ANGB

Selfridge MI 48045

Landholding Agency: Air Force

Property Number: 18201220020

Status: Unutilized

Directions: 326, 780, 710

Comments: off-site removal only; sf varies; office/school/barracks; fair conditions; need repairs

New Jersey

B-5249

South Scott Plaza

Ft. Dix NJ 08640

Landholding Agency: Air Force

Property Number: 18201230011

Status: Unutilized

Comments: off-site removal only; cooling tower; extensive deterioration; major repairs required; restricted area; contact AF for more details on accessibility/removal

Building 5971

West End Plaza

JBMDL NJ 08640

Landholding Agency: Air Force

Property Number: 18201310025

Status: Unutilized

Comments: off-site removal only; 1,842 sf.; storage; poor conditions; restricted area; contact AF for info. on accessibility reqs.

Oklahoma

Building 267

7576 Sentry Blvd.

Tinker AFB OK 73145

Landholding Agency: Air Force

Property Number: 18201310039

Status: Unutilized

Comments: off-site removal only; 6,892 sf.; vehicle parking shed; fair conditions; restricted area; contact AF for info. on accessibility/removal requirements

South Carolina

Building 1400

66/68 Von Steuben

Goose Creek SC 29445

Landholding Agency: Air Force

Property Number: 18201310006

Status: Underutilized

Comments: 3,426 sf.; storage; fair conditions

Land at Henley Park Area

JBC

N. Charleston SC 29404

Landholding Agency: Air Force

Property Number: 18201310008

Status: Underutilized

Comments: 57 acres; restricted military installation; contact AF on info. on accessibility reqs.

Texas

Building 57001

Concho

San Angelo TX 76904

Landholding Agency: Air Force

Property Number: 18201310057

Status: Excess

Comments: 1,072 sf.; shop; poor conditions; termite damage

Utah

Building 00030

Tooele Army Depot

Tooele UT 84074

Landholding Agency: Army

Property Number: 21201310067

Status: Underutilized

Comments: off-site removal only; playground; disassembly required; minor restoration needed; restricted area; contact Army for accessibility/removal reqs.

Virginia

Joint Base Langley Eustis

1134 Wilson Ave.

Newport News VA

Landholding Agency: Air Force

Property Number: 18201240006

Status: Unutilized

Comments: 887 sf.; storage; poor conditions; restricted area; vistor's pass required; contact AF for more info.

Joint Base Langley Eustis

3508 Mulberry Island Rd.

Newport News VA

Landholding Agency: Air Force

Property Number: 18201240007

Status: Unutilized

Comments: 4,026 sf.; storage; poor conditions; restricted area; vistor's pass required; contact AF for more info.

Suitable/Available Properties

Land

Florida

WBPA (9901/72441/99300)

9901 E. Pine Ave.

St. George Island FL 32328

Landholding Agency: Air Force

Property Number: 18201310041

Status: Excess

Comments: .34 acres; tower & fence needs to be removed; remote access; contact AF for more info.

Suitable/Unavailable Properties

Building

Oklahoma

24 Buildings

Tinker AFB

Tinker AFB OK 73145

Landholding Agency: Air Force

Property Number: 18201310040

Status: Excess

Directions: 9005, 217, 222, 234, 803, 902, 903, 904, 905, 990, 994, 1001, 1096, 1110, 2128, 3333, 3805, 4005, 4068, 7005, 7007, 7037, 7038, 7041

Comments: sf. varies; fair to moderate conditions; currently bldgs. are unavailable because they are being utilized by the AF

Unsuitable Properties

Building

Alabama

6 Buildings

Varies Locations

Maxwell AFB AL 36112

Landholding Agency: Air Force

Property Number: 18201230025

Status: Excess

Directions: 1417, 1418, 1419, 1422, 1468, 1470

Comments: located w/in restricted area; public access denied & no alternative method to gain access w/out compromising Nat'l security

Reasons: Secured Area

Bldg. 31

450 Cedar St.

Maxwell AFB AL 36112

Landholding Agency: Air Force

Property Number: 18201230026

Status: Unutilized

Comments: located w/in restricted area; public access denied & no alternative method to gain access w/out compromising Nat'l security

Reasons: Secured Area

Building 853

25 South LeMay

Maxwell AFB AL 36112

Landholding Agency: Air Force

Property Number: 18201240002

Status: Underutilized

Comments: located on active military installation; public access denied & no alternative method to gain access w/out compromising nat'l security

Reasons: Secured Area

6 Buildings

Maxwell AFB

Maxwell AL

Landholding Agency: Air Force

Property Number: 18201240021

Status: Underutilized

Directions: 302, 307, 1411, 695, 699, 322

Comments: public access denied & no alternative method to gain access w/out compromising nat'l security

Reasons: Secured Area

2 Buildings

Maxwell AFB

Maxwell AFB AL 36112

Landholding Agency: Air Force

Property Number: 18201310034

Status: Underutilized

Directions: 1450, 1451

Comments: secured military installation; public access denied & no alternative method to gain access w/out compromising nat'l security

Reasons: Secured Area

3 Buildings

Visiting Officer Qtrs.

Gunter Annex AL 36114

Landholding Agency: Air Force

Property Number: 18201310035

Status: Underutilized

Directions: 1014, 1015, 1016

Comments: secured military installation; public access denied & no alternative method to gain access w/out compromising nat'l security

Reasons: Secured Area

Building 926

210 Kirkpatrick Ave.

Maxwell AFB AL 36112

Landholding Agency: Air Force

Property Number: 18201310043

Status: Underutilized

Comments: secured military installation; public access denied & no alternative w/out compromising nat'l security

Reasons: Secured Area

Alaska

3 Buildings

Eielson AFB

Eielson AK

Landholding Agency: Air Force

Property Number: 18201310017

Status: Unutilized

Directions: 6161, 6120, 6154

Comments: w/in secured area; public access denied & no alternative method to gain access w/out compromising nat'l security

Reasons: Secured Area

6 Buildings

Eielson AFB

Eielson AK 99702

Landholding Agency: Air Force

Property Number: 18201310019

Status: Unutilized

Directions: 2208, 3125, 6151, 6156, 6158, 6159

Comments: w/in secured area; public access denied & no alternative method to gain access w/out compromising nat'l security

Reasons: Secured Area

5 Buildings

Eareckson Air Station

Eareckson AS AK 99546

Landholding Agency: Air Force

Property Number: 18201310037

Status: Unutilized

Directions: 0719, 00400, 03055, 0071, 00702

Comments: restricted access; public access denied & no alternative method to gain access w/out compromising nat'l security

Reasons: Secured Area

Arizona

7 Buildings

Davis Monthan AFB

Tucson AZ 85707

Landholding Agency: Air Force

Property Number: 18201310042

Status: Underutilized

Directions: 145, 4101, 4857, 4858, 5122, 5313

Comments: military installation; public access denied & no alternative w/out compromising nat'l security

Reasons: Secured Area

CALIFORNIA

2 Buildings

401 & 405 14th St.

Edwards AFB CA 93524

Landholding Agency: Air Force

Property Number: 18201230002

Status: Unutilized

Directions: 7177, 7179

Comments: public access not allowed; no alternative method to allow public access w/out comprising nat'l security

Reasons: Secured Area

4259

741 Circle

Edwards AFB CA 93524

Landholding Agency: Air Force

Property Number: 18201230003

Status: Unutilized

Comments: public access not allowed; no alternative method to allow public access w/out comprising nat'l security

Reasons: Secured Area

3 Buildings

Edwards AFB

Edwards AFB CA 93524

Landholding Agency: Air Force

Property Number: 18201230032

Status: Unutilized

Directions: 1412, 4203, 7020

Comments: located w/in restricted area where public access denied & no alternative method to gain access w/out compromising nat'l security

Reasons: Secured Area

26 Buildings

Eureka Hill Rd.

Point Arena Air CA

Landholding Agency: Air Force

Property Number: 18201240011

Status: Underutilized

Directions: 602, 603, 604, 605, 606, 607, 608, 609, 610, 611, 612, 613, 614, 615, 616, 617, 618, 619, 620, 621, 622, 623, 624, 625, 626, 627

Comments: secured area; public access denied & no alternative method to gain access w/out compromising nat'l security

Reasons: Secured Area

21 Buildings

Eureka Hill Rd.

Point Arena Air CA

Landholding Agency: Air Force

Property Number: 18201240012

Status: Underutilized

Directions: 100, 102, 104, 105, 160, 201, 108, 202, 203, 206, 220, 221, 222, 225, 228, 217, 218, 408, 700, 300, 216

Comments: secured area; public access denied & no alternative method to gain access w/out compromising nat'l security

Reasons: Secured Area

ACFT DY RSCH

Edwards AFB

Edwards CA

Landholding Agency: Air Force

Property Number: 18201240016

Status: Unutilized

Comments: secured area; public access denied & no alternative method to gain access w/out compromising nat'l security

Reasons: Secured Area

ACFT RSCH ENG

Edwards AFB

Edwards CA

Landholding Agency: Air Force

Property Number: 18201240017

Status: Unutilized

Comments: secured area; public access denied & no alternative method to gain access w/out compromising nat'l security

Reasons: Secured Area

Kennel Stray Animal

Edwards AFB

Edwards CA

Landholding Agency: Air Force

Property Number: 18201240018

Status: Excess

Comments: secured area; public access denied & no alternative method to gain access w/out compromising nat'l security

Reasons: Secured Area

10 Buildings

Fresno Yosemite Intern'l

Fresno CA 93727

Landholding Agency: Air Force

Property Number: 18201240036

Status: Excess

Directions: 2202, 2203, 2204, 2206, 2207, 2208, 2217, 2219, 2221, 2223

Comments: restricted area; public access denied & no alternative method to gain access w/out compromising nat'l security

Reasons: Secured Area

4 Buildings

Arnold/Grumman Ave.

Beale CA 95903

Landholding Agency: Air Force

Property Number: 18201310018

Status: Underutilized

Directions: 1057, 1058, 1226, 1152

Comments: w/in secured area; public access denied & no alternative method to gain access w/out compromising nat'l security

Reasons: Secured Area

4 Buildings

Edwards AFB

Edwards AFB CA 93523

Landholding Agency: Air Force

Property Number: 18201310053

Status: Underutilized

Directions: B1412, B1400, B4900, B8834

Comments: secured area; public access denied & no alternative w/out compromising nat'l security

Reasons: Secured Area

2 Buildings

MISC REC BLDG.

Edwards AFB CA 93523

Landholding Agency: Air Force

Property Number: 18201310054

Status: Unutilized

Directions: B5206, B16

Comments: secured area; public access denied & no alternative w/out compromising nat'l security

Reasons: Secured Area

Colorado

4 Buildings

Buckley AFB

Aurora CO 80011

Landholding Agency: Air Force

Property Number: 18201230017

Status: Underutilized

Directions: B1504, B1503, B1502, B1501

Comments: located w/in secured area where public access denied & no alternative method to gain access w/out compromising nat'l security

Reasons: Secured Area

San Latrine Shower

1093 Ferl Rd.

USAF Academy CO 80840

Landholding Agency: Air Force

Property Number: 18201230033

Status: Underutilized

Comments: located w/in secured area; public access denied & no alternative method to gain access w/out compromising nat'l security

Reasons: Secured Area

12 Buildings

Military Housing

USAF Academy CO

Landholding Agency: Air Force

Property Number: 18201310029

Status: Unutilized

Directions: 66073, 66080, 66100, 66074, 66081, 66101, 66070, 66071, 66082, 66102, 9328, 9329

Comments: w/in secured area; public access denied & no alternative method to gain access w/out compromising nat'l security

Reasons: Secured Area

Delaware

2 Buildings

Dover AFB

Dover DE 19902

Landholding Agency: Air Force

Property Number: 18201230018

Status: Underutilized

Directions: 3499, 899

Comments: located w/in secured area where public access denied & no alternative method to gain access w/out compromising nat'l security

Reasons: Secured Area

Building 2818

2600 Spruance Dr.

New Castle DE 19720

Landholding Agency: Air Force

Property Number: 18201310050

Status: Unutilized

Comments: secured area; public access denied & no alternative w/out compromising nat'l security

Reasons: Secured Area

Florida

Facilities 28407 & 28411

1656 Lighthouse Rd.

Cape Canaveral FL 32925

Landholding Agency: Air Force

Property Number: 18201220009

Status: Excess

Comments: nat'l security concerns; public access denied & no alternative method to gain access w/out comprising nat'l security.

Reasons: Secured Area

2 Buildings

Hurlburt Field

Hurlburt Field FL 32544

Landholding Agency: Air Force

Property Number: 18201220010

Status: Underutilized

Directions: 90318 and 90319

Comments: nat'l security concerns; public access denied & no alternative method to gain access w/out comprising nat'l security.

Reasons: Secured Area

10 Buildings

Cape Canaveral

Cape Canaveral FL 32925

Landholding Agency: Air Force

Property Number: 18201220039

Status: Excess

Directions: 28411, 28415, 44500, 49928, 28401, 24445, 24404, 24403, 1715, 70540

Comments: nat'l security concerns; public access denied & no alternative method to gain access w/out comprising nat'l security

Reasons: Secured Area

3 Buildings

MacDill AFB

MacDill FL 33621

Landholding Agency: Air Force

Property Number: 18201230009

Status: Unutilized

Directions: 1205, 1149, 1135

Comments: located w/in secured area where public access denied & no alternative method to gain access w/out compromising nat'l security

Reasons: Secured Area

10 Buildings

Samuel C. Phillips Pkwy

Cape Canaveral AFB FL 32925

Landholding Agency: Air Force

Property Number: 18201230014

Status: Excess

Directions: 84922, 84920, 67900,60535, 60534, 1361, 40906, 56623, 36004, 17705

Comments: located w/in secured area where public access denied & no alternative method to gain access w/out compromising nat'l security

Reasons: Secured Area

Facility 49800

15030 Samuel C. Phillips Pkwy

Cape Canaveral FL 32925

Landholding Agency: Air Force

Property Number: 18201230019

Status: Excess

Comments: located w/in secured area where public access denied & no alternative method to gain access w/out compromising nat'l security

Reasons: Secured Area

Bldg. 1132

Transmitter Rd.

MacDill AFB FL 33621

Landholding Agency: Air Force

Property Number: 18201230021

Status: Unutilized

Comments: located w/in secured area where public access denied & no alternative method to gain access w/out compromising nat'l security

Reasons: Secured Area

Bldg. 297

8005 Hillsborough Loop Dr.

MacDill FL 33621

Landholding Agency: Air Force

Property Number: 18201230049

Status: Underutilized

Comments: located w/in secured area; public access denied & no alternative method to gain access w/out compromising nat'l security

Reasons: Secured Area

9 Buildings

MacDill AFB

MacDill FL 33621

Landholding Agency: Air Force

Property Number: 18201230050

Status: Unutilized

Directions: 23, 189, 821, 828, 829, 1075, 1083, 1084

Comments: located w/in restricted active military installation; public access denied & no alternative method to gain access w/out compromising nat'l security

Reasons: Secured Area

8 Buildings

Eglin AFB

Eglin FL 32542

Landholding Agency: Air Force

Property Number: 18201230057

Status: Underutilized

Directions: 223, 255, 411, 584, 1278, 1284, 1289, 4023

Comments: located in restricted controlled gov't installation; public access denied & no alternative method to gain access w/out compromising nat'l security

Reasons: Secured Area

2 Buildings

Eglin AFB

Eglin FL 32542

Landholding Agency: Air Force

Property Number: 18201230058

Status: Unutilized

Directions: 586, 9267

Comments: located un restricted controlled gov't installation; public access denied & no alternative method to gain access w/out compromising nat'l security

Reasons: Secured Area

7 Buildings

Eglin AFB

Eglin FL 32542

Landholding Agency: Air Force

Property Number: 18201240015

Status: Underutilized

Directions: 249, 250, 251, 256, 408, 888, 955

Comments: restricted area; public access denied & no alternative method to gain access w/out compromising nat'l security

Reasons: Secured Area

4 Buildings

Fighter Wing, FL ANGB

Jacksonville FL 32218

Landholding Agency: Air Force

Property Number: 18201240028

Status: Underutilized

Directions: 1014, 1015, 1016, 1017

Comments: property located on a gated entry controlled military base; public access denied & no alternative to gain access w/out compromising nat'l security.

Reasons: Secured Area

Facility 3013

107 Ford St.

Eglin AFB FL 32542

Landholding Agency: Air Force

Property Number: 18201240034

Status: Underutilized

Comments: located in a secured area; on the Duke Field cantonment area; public access denied & no alternative method to gain access w/out compromising nat'l security

Reasons: Secured Area

3 Buildings

Tyndall AFB

Tyndall FL 32403

Landholding Agency: Air Force

Property Number: 18201310012

Status: Unutilized

Directions: B122, B123, 920

Comments: located w/in secured area; public access denied & no alternative method to gain access w/out compromising nat'l security

Reasons: Secured Area

21 Buildings

Cape Canaveral AFS

Cape Canaveral AFS FL 32925

Landholding Agency: Air Force

Property Number: 18201310032

Status: Unutilized

Directions: 1627, 2826, 2842, 4120, 5414, 7006, 7850, 8602, 15832, 28403, 28404, 28408, 28409, 28414, 28420, 28422, 28423, 28425, 28502, 28504, 36001

Comments: secured area; public access denied & no alternative method to gain access w/out compromising nat'l security

Reasons: Secured Area

5 Buildings

Kennedy Space Ctr. Communications

Kennedy Space Ctr. FL 32815

Landholding Agency: Air Force

Property Number: 18201310033

Status: Unutilized

Directions: 29115, 29120, 29139, 29142, 95401

Comments: secured area; public access denied & no alternative method without compromising nat'l security

Reasons: Secured Area

Building 91400

Traffic Check House

Hurlburt Field FL 32544

Landholding Agency: Air Force

Property Number: 18201310052

Status: Underutilized

Comments: secured area; public access denied & no alternative w/out compromising nat'l security

Reasons: Secured Area

12 Buildings

Florida Ave.

Tyndall AFB FL 32403

Landholding Agency: Air Force

Property Number: 18201310061

Status: Underutilized

Directions: 6030, 6022, 6021, 6020, 6016, 6014, 6025, 6023, 6028, 9706, 9704, 9719

Comments: secured area; public access denied & no alternative method w/out compromising nat'l security

Reasons: Secured Area

6027 CE Shop/DRMO

302 Florida Ave.

Tyndall AFB FL 32403

Landholding Agency: Air Force

Property Number: 18201310062

Status: Excess

Comments: secured area; public access denied & no alternative method w/out compromising nat'l security

Reasons: Secured Area

Georgia

7 Buildings

Glynco Air Nat'l Guard Station

Brunswick GA 31525

Landholding Agency: Air Force

Property Number: 18201310044

Status: Excess

Directions: 002, 008, 009, 839, 841, 890, 891

Comments: w/in secured location; public access denied & no alternative w/out compromising nat'l security

Reasons: Secured Area

Hawaii

Bldg. 3378

Joint Base Pearl Harbor

Hickman HI

Landholding Agency: Air Force

Property Number: 18201240027

Status: Unutilized

Comments: located on secured area; public access denied & no alternative method to gain access w/out compromising nat'l security

Reasons: Secured Area

7 Buildings

Wake Island

Wake Island HI 96898

Landholding Agency: Air Force

Property Number: 18201310038

Status: Unutilized

Directions: 01403, 01406, 01407, 01408, 01411, 01186

Comments: restricted area; public access denied & no alternative method to gain access w/out compromising nat'l security

Reasons: Secured Area

16 Buildings

Wake Island

Wake Island HI 96898

Landholding Agency: Air Force

Property Number: 18201310055

Status: Unutilized

Directions: 00404, 00443, 00445, 00950, 01172, 01174, 01186, 01187, 01202, 01204, 01211, 01212, 01216, 01306, 1808

Comments: secured area; public access denied & no alternative method w/out compromising nat'l security

Reasons: Secured Area

Idaho

Fac. 291

Bomber Rd.

MHAFB ID 83648

Landholding Agency: Air Force

Property Number: 18201240013

Status: Unutilized

Comments: secured area; public access denied & no alternative method to gain access w/out compromising nat'l security

Reasons: Secured Area

Illinois

3 Buildings

Scott AFB

Scott AFB IL 62225

Landholding Agency: Air Force

Property Number: 18201220034

Status: Unutilized

Directions:

1984, 1985, 530

Comments: High security active duty installation; nat'l security concerns; public access denied & no alternative method to gain access w/out comprising nat'l security

Reasons: Secured Area

B1508

107 Bucher St.

Scott AFB IL 62225

Landholding Agency: Air Force

Property Number: 18201230023

Status: Excess

Comments: authorized access only; restricted area; public access denied & no alternative method to gain access w/out compromising nat'l security

Reasons: Secured Area

Building 509

611 South Drive

Scott AFB IL 62225

Landholding Agency: Air Force

Property Number: 18201310009

Status: Unutilized

Comments: located w/in secured area; public access denied & no alternative method to gain access w/out compromising nat'l security

Reasons: Secured Area

Indiana

Facilities 99 &1371

Stor Igloos

Terre Haute IN 47803

Landholding Agency: Air Force

Property Number: 18201220019

Status: Unutilized

Comments: nat'l security concerns; public access denied & no alternative method to gain access w/out comprising nat'l security.

Reasons: Secured Area

Kansas

7 Buildings

McConnell AFB

McConnell KS 67210

Landholding Agency: Air Force

Property Number: 18201220033

Status: Underutilized

Directions: 408, 415, 424, 425, 696, 750, 1120

Comments: nat'l security concerns; public access denied & no alternative method to gain access w/out comprising nat'l security

Reasons: Secured Area

4 Buildings

McConnell AFB

McConnell KS 67210

Landholding Agency: Air Force

Property Number: 18201310005

Status: Underutilized

Directions: 685, 950, 1091, 1335

Comments: restricted military installation; public access denied & no alternative method to gain access w/out compromising nat'l security

Reasons: Secured Area

4 Buildings

Kansas Air Nat'l Guard

McConnell AFB KS 67221

Landholding Agency: Air Force

Property Number: 18201310048

Status: Underutilized

Directions: 52, 1394, 6001, 6013

Comments: secured area; public access denied & no alterative w/out compromising nat'l security

Reasons: Secured Area

Facility 13

52010 Jayhawk Dr.

McConnell AFB KS 67221

Landholding Agency: Air Force

Property Number: 18201310049

Status: Unutilized

Comments: secured area; public access denied & no alternative w/out compromising nat'l security

Reasons: Secured Area

Louisiana

3 Buildings

Barksdale AFB

Barksdale AFB LA 71110

Landholding Agency: Air Force

Property Number: 18201220032

Status: Unutilized

Directions: 5724, 7318, 7136

Comments: nat'l security concerns; public access denied & no alternative method to gain access w/out comprising nat'l security

Reasons: Secured Area

4 Buildings

Barksdale AFB

Barksdale LA 71110

Landholding Agency: Air Force

Property Number: 18201240004

Status: Unutilized

Directions: 4411,4414,4421,4868

Comments: w/in restricted area; public access denied & no alternative method to gain access w/out compromising nat'l security

Reasons: Secured Area

B-4401

743 Kenny Ave.

Barksdale LA 71110

Landholding Agency: Air Force

Property Number: 18201240005

Status: Excess

Comments: restricted area; public access denied & no alternative method to gain access w/out compromising nat'l security

Reasons: Secured Area

Building 4161

460 Billy Mitchell Ave.

Barksdale LA 71110

Landholding Agency: Air Force

Property Number: 18201240014

Status: Underutilized

Comments: secured area; public access denied & no alternative method to gain access w/out compromising nat'l security

Reasons: Secured Area

Bldg. 6115

300 Miller Ave.

Boosier LA 71112

Landholding Agency: Air Force

Property Number: 18201240033

Status: Unutilized

Comments: extremely high noise hazard area; located w/in military airfield clear zone

Reasons: Within airport runway clear zone

2 Buildings

300 Miller Ave.

Boosier City LA 71112

Landholding Agency: Air Force

Property Number: 18201240035

Status: Unutilized

Directions: 6117, 6119

Comments: located w/in 1,500 ft. of a Federal facility handling 34,000 gallons of flammable materials; located within aircraft accident potential zone 1 (most dangerous); military airfield clear zone

Reasons: Within airport runway clear zone Within 2000 ft. of flammable or explosive material

7 Buildings

Barksdale AFB

Barksdale LA

Landholding Agency: Air Force

Property Number: 18201310027

Status: Underutilized

Directions: 4235, 4427, 4431, 4432, 4433, 4434, 4868

Comments: w/in secured area; public access denied & no alternative method to gain access w/out compromising nat'l security

Reasons: Secured Area

Maryland

2 Buildings

Martin State Airport

Baltimore MD 21220

Landholding Agency: Air Force

Property Number: 18201220022

Status: Excess

Directions: 1120 & 1121

Comments: nat'l security concerns; public access denied & no alternative method to gain access w/out comprising nat'l security.

Reasons: Secured Area

Massachusetts

137 Pump House

Reilly House

OTIS ANGB MA

Landholding Agency: Air Force

Property Number: 18201230048

Status: Excess

Comments: located w/in secured area; public access denied & no alternative method to gain access w/out compromising nat'l security

Reasons: Secured Area

3 Buildings

175 Falcon Dr.

Westfield MA 01085

Landholding Agency: Air Force

Property Number: 18201240026

Status: Excess

Directions: 16, 35, 28

Comments: located on secured area; public access denied & no alternative methods to gain access w/out compromising nat'l security

Reasons: Secured Area

Mississippi

4 Buildings

Kessler AFB

Kessler AFB MS 39534

Landholding Agency: Air Force

Property Number: 18201220037

Status: Underutilized

Directions: 4813, 4815, 4906, 4910

Comments: nat'l security concerns; public access denied & no alternative method to gain access w/out comprising nat'l security

Reasons: Secured Area

Bldg. 21005

6225 M St.

Meridian MS 39307

Landholding Agency: Air Force

Property Number: 18201230046

Status: Unutilized

Comments: Access limited to military personnel only; public access denied & no alternative method to gain access w/out compromising nat'l security

Reasons: Secured Area

Building 630

713 Lockhart

Columbus MS 39710

Landholding Agency: Air Force

Property Number: 18201230060

Status: Underutilized

Comments: public access denied & no alternative method to gain access w/out compromising nat'l security

Reasons: Secured Area

2 Buildings

Security Police Operations

Meridian MS

Landholding Agency: Air Force

Property Number: 18201310046

Status: Excess

Directions: 501, 502

Comments: secured area; public access denied & no alternative w/out compromising nat'l security

Reasons: Secured Area

Missouri

5 Buildings

705 Memorial Dr.

Saint Joseph MO 64506

Landholding Agency: Air Force

Property Number: 18201310047

Status: Underutilized

Directions: 14, 15, 57, 59, 129

Comments: secured area; public access denied & no alternative w/out compromising nat'l security

Reasons: Secured Area

Montana

Building 30

120th Fighter Wing

Great Falls MT 59404

Landholding Agency: Air Force

Property Number: 18201310020

Status: Underutilized

Comments: w/in secured area; public access denied & no alternative method to gain access w/out compromising nat'l security

Reasons: Secured Area

Nebraska

2 Buildings

Offutt AFB

Offutt NE 68113

Landholding Agency: Air Force

Property Number: 18201220026

Status: Excess

Directions: 443, 620

Comments: nat'l security concerns; public access denied & no alternative method to gain access w/out comprising nat'l security

Reasons: Secured Area

New Hampshire

PEASE ANGB

302 Newmarket St.

Newington NH 03803

Landholding Agency: Air Force

Property Number: 18201230043

Status: Unutilized

Comments: public access denied & no alternative method to gain access w/out compromising nat'l security

Reasons: Secured Area

Building 244

302 Newmarket St.

Newington NH 03803

Landholding Agency: Air Force

Property Number: 18201310023

Status: Excess

Comments: w/in secured area; public access denied & no alternative method to gain access w/out compromising nat'l security

Reasons: Secured Area

New Jersey

Building 2602

Joint Base McGuire-Dix Lakehurst

Trenton NJ 08641

Landholding Agency: Air Force

Property Number: 18201220044

Status: Unutilized

Comments: nat'l security concerns; approval for the public to gain access w/out comprising nat'l security is not feasible; will promote a breach of security

Reasons: Secured Area

3 Buildings

Joint Base McGuire Dix Lakehurst

Ft. Dix NJ 08640

Landholding Agency: Air Force

Property Number: 18201230008

Status: Unutilized

Directions: 9725, 9055, 9404

Comments: located w/in secured area where public access denied & no alternative method to gain access w/out compromising nat'l security

Reasons: Secured Area

Facility 9418

Joint Base McGuire Dix Lakehurst

Ft. Dix NJ 08640

Landholding Agency: Air Force

Property Number: 18201230013

Status: Unutilized

Comments: located w/in secured area where public access denied & no alternative method to gain access w/out compromising nat'l security

Reasons: Secured Area

4 Buildings

Joint Base McGuire-Dix-Lakehurst

Ft. Dix NJ 08640

Landholding Agency: Air Force

Property Number: 18201230051

Status: Unutilized

Directions: 9723, 9728, 9411, 9403

Comments: located w/in secured area where public access denied & no alternative method to gain access w/out compromising nat'l security

Reasons: Secured Area

Bldg. 9415

9410 Old Shore Rd.

Ft. Dix NJ 08640

Landholding Agency: Air Force

Property Number: 18201230053

Status: Unutilized

Comments: located w/in restricted area where public access denied & no alternative method to gain access w/out compromising nat'l security

Reasons: Secured Area

Traffic Check House

3573 Lancaster Rd.

Trenton NJ 08641

Landholding Agency: Air Force

Property Number: 18201230054

Status: Unutilized

Comments: located w/in secured post; public access denied & no alternative method to gain access w/out compromising nat'l security

Reasons: Secured Area

2 Buildings

JBMDL

Ft. Dix NJ 08640

Landholding Agency: Air Force

Property Number: 18201240019

Status: Unutilized

Directions: 8679, 2316

Comments: secured post; public access denied & no alternative method to gain access w/out compromising nat'l security

Reasons: Secured Area

2 Buildings

JBMDL

JBMDL NJ 08641

Landholding Agency: Air Force

Property Number: 18201310024

Status: Unutilized

Directions: 3332, 3351

Comments: located w/in secured area; public access denied & no alternative method to gain access w/out compromising nat'l security

Reasons: Secured Area

New Mexico

3 Buildings

Kirtland AFB

Kirtland AFB NM 87117

Landholding Agency: Air Force

Property Number: 18201220011

Status: Underutilized

Directions: 253, 255, 638

Comments: nat'l security concerns; public access denied & no alternative method to gain access w/out comprising nat'l security.

Reasons: Secured Area

Bldg. 30116

5801 Manzano St SE

Kirtland AFB NM 87117

Landholding Agency: Air Force

Property Number: 18201220012

Status: Underutilized

Comments: nat'l security concerns; public access denied & no alternative method to gain access w/out comprising nat'l security.

Reasons: Secured Area

6 Buildings

Kirtland AFB

Kirtland AFB NM 87117

Landholding Agency: Air Force

Property Number: 18201220013

Status: Unutilized

Directions: 37514, 37511, 37509, 37503, 30144, 30108

Comments: nat'l security concerns; public access denied & no alternative method to gain access w/out comprising nat'l security.

Reasons: Secured Area

Bldgs. 573, 855, 859

Holloman AFB

Holloman AFB NM 88330

Landholding Agency: Air Force

Property Number: 18201220023

Status: Unutilized

Comments: nat'l security concerns; public access denied & no alternative method to gain access w/out comprising nat'l security

Reasons: Secured Area

5 Buildings

Holloman AFB

Holloman AFB NM 88330

Landholding Agency: Air Force

Property Number: 18201220030

Status: Unutilized

Directions: 19, 838, 1197, 847, 1198

Comments: nat'l security concerns; public access denied due to anti-terrorism & no alternative method to gain access w/out comprising nat'l security

Reasons: Secured Area

Buildings 782, 793, 1102, 803

Holloman AFB

Holloman NM 88330

Landholding Agency: Air Force

Property Number: 18201240008

Status: Unutilized

Comments: Active military installation; public access denied & no alternative method to gain access w/out compromising nat'l security

Reasons: Secured Area

5 Buildings

Cannon AFB

Cannon NM 88103

Landholding Agency: Air Force

Property Number: 18201240031

Status: Unutilized

Directions: 381, 799, 2112, 2332,258

Comments: [INSERT LANG.] located on AF controlled installation; restricted to authorized personnel only; public access denied & no alternative method to gain access w/out compromising nat'l security

Reasons: Secured Area

Ohio

Facility 20167

2310 Eighth St.

WPAFB OH 43433

Landholding Agency: Air Force

Property Number: 18201230031

Status: Unutilized

Comments: located w/in controlled fenced perimeter of military installation; public access denied & no alternative method to gain access w/out compromising nat'l security

Reasons: Secured Area

10 Buildings

WPAFB

WPAFB OH 45433

Landholding Agency: Air Force

Property Number: 18201310013

Status: Unutilized

Directions: 10297, 20062, 20096, 20130, 30153, 30882, 30902, 31190, 30230, 31234

Comments: W/in secured installation; public access denied & no alternative method to gain access w/out compromising nat'l security

Reasons: Secured Area

Oklahoma

Facility 47

Altus AFB

AGGN OK 73523

Landholding Agency: Air Force

Property Number: 18201230030

Status: Excess

Comments: Public access denied due to anti-terrorism/force protection & no alternative method to gain access w/out compromising nat'l security

Reasons: Secured Area

Facility 47

501 North First St.

Altus OK 73523

Landholding Agency: Air Force

Property Number: 18201240022

Status: Excess

Comments: Public access denied & no alternative method to gain access w/out compromising nat'l security

Reasons: Secured Area

4 Buildings

Altus AFB

Altus OK 73523

Landholding Agency: Air Force

Property Number: 18201240023

Status: Unutilized

Directions: 165, 65, 72, 48

Comments: Secured area; public access denied & no alternative method to gain access w/out compromising nat'l security

Reasons: Secured Area

2 Buildings

Altus AFB

Altus OK 73523

Landholding Agency: Air Force

Property Number: 18201310051

Status: Unutilized

Directions: 267, 335

Comments: Secured area; public access denied & no alternative w/out compromising nat'l security

Reasons: Secured Area

Oregon

Building 1004

6801 NE Cornfoot Rd.

Portland OR 97218

Landholding Agency: Air Force

Property Number: 18201240025

Status: Unutilized

Comments: Located on secured areea; public access denied & no alternative method to gain access w/out compromising nat'l security

Reasons: Secured Area

3 Buildings

NE Cornfoot Rd.

Portland OR 97218

Landholding Agency: Air Force

Property Number: 18201310021

Status: Unutilized

Directions: 370, 188, 130

Comments: W/in secured area; public access denied & no alternative to gain access w/out compromising nat'l security

Reasons: Secured Area

3 Buildings

6801 NE Cornfoot Rd.

Portland OR 97218

Landholding Agency: Air Force

Property Number: 18201310045

Status: Unutilized

Directions: 494, 188, 370

Comments: Secured military installation; public access denied & no alternative method w/out compromising nat'l security

Reasons: Secured Area

South Carolina

11 Buildings

Shaw AFB

Sumter SC 29152

Landholding Agency: Air Force

Property Number: 18201220042

Status: Unutilized

Directions: 1851, 1850, 1852, 1856, 1858, B413, B420, B1713, B1049, B702, B1128

Comments: Facilities are located on a secured military installation; no public access & no alternative method to gain access w/out comprising nat'l security

Reasons: Secured Area

Bldg. 211

110 Graves Ave.

Joint Base Charleston SC 29404

Landholding Agency: Air Force

Property Number: 18201230055

Status: Unutilized

Comments: Located in restricted area; public access denied & no alternative method to gain access w/out compromising nat'l security

Reasons: Secured Area

Building 433

JBCWS

Goose Creek SC 29445

Landholding Agency: Air Force

Property Number: 18201310007

Status: Underutilized

Comments: Located w/in secured area; public access denied & no alternative method to gain access w/out compromising nat'l security

Reasons: Secured Area

Tennessee

ACFT DY RSCH TEST

675 Second St.

Arnold AFB TN 37389

Landholding Agency: Air Force

Property Number: 18201230039

Status: Underutilized

Comments: Located in secured restricted area; public access denied & no alternative method to gain access w/out compromising nat'l security

Reasons: Secured Area

4 Buildings

2219 Sixth St.

Arnold AFB TN 37389

Landholding Agency: Air Force

Property Number: 18201230040

Status: Underutilized

Directions: 2220, 2221, 2222, 2223

Comments: Located in secured restricted area; public access denied & no alternative method to gain access w/out compromising nat'l security

Reasons: Secured Area

Bldg. 708

Nashville IAP

Nashville TN 37217

Landholding Agency: Air Force

Property Number: 18201230059

Status: Underutilized

Comments: authorized military personnel only; restricted area; public access denied & no alternative method to gain access w/out compromising nat'l security

Reasons: Secured Area

Building 712

240 Knapp Blvd.

Nashville TN 37217

Landholding Agency: Air Force

Property Number: 18201240024

Status: Excess

Comments: located on secured area; public access denied & no alternative method to gain access w/out compromising nat'l security

Reasons: Secured Area

Building 750

South Fourth St.

Arnold AFB TN 37389

Landholding Agency: Air Force

Property Number: 18201240037

Status: Excess

Comments: located on secured area where public access denied & no alternative method to gain access w/out compromising nat'l security

Reasons: Secured Area

3 Buildings

Knapp Blvd.

Nashville TN

Landholding Agency: Air Force

Property Number: 18201310022

Status: Unutilized

Directions: 717, 730, 731

Comments: w/in secured area; public access denied & no alternative method to gain access w/out compromising nat'l security

Reasons: Secured Area

Facilities 1470 & 1485

Arnold AFB

Arnold AFB TN 37389

Landholding Agency: Air Force

Property Number: 18201310063

Status: Excess

Comments: secured area; public access denied & no alternative method w/out compromising nat'l security

Reasons: Secured Area

Texas

11 Buildings

Ft. Sam Houston

San Antonio TX 78234

Landholding Agency: Air Force

Property Number: 18201220014

Status: Unutilized

Directions: 1149, 1151, 1152, 1153, 1154, 1158, 1159, 1160, 1161, 1162, 1163

Comments: nat'l security concerns; public access denied & no alternative method to gain access w/out comprising nat'l security.

Reasons: Secured Area

12 Buildings

Ft. Sam Houston

San Antonio TX 78234

Landholding Agency: Air Force

Property Number: 18201220015

Status: Unutilized

Directions: 2410, 2411, 2412, 2425, 2427, 2429, 2430, 2432, 3551, 3552, 3553, 3557

Comments: nat'l security concerns; public access denied & no alternative method to gain access w/out comprising nat'l security.

Reasons: Secured Area

Bldg. 435

Goodfellow AFB

Goodfellow AFB TX 76908

Landholding Agency: Air Force

Property Number: 18201220016

Status: Excess

Comments: nat'l security concerns; public access denied & no alternative method to gain access w/out comprising nat'l security.

Reasons: Secured Area

4 Buildings

Storage Munitions Cubicle

Lackland AFB TX

Landholding Agency: Air Force

Property Number: 18201220028

Status: Unutilized

Directions: 402, 403, 404, 585

Comments: nat'l security concerns; public access denied & no alternative method to gain access w/out comprising nat'l security

Reasons: Secured Area

Bldg. 1092

Sheppard AFB

Sheppard AFB TX 76311

Landholding Agency: Air Force

Property Number: 18201220029

Status: Unutilized

Comments: nat'l security concerns; public access denied & no alternative method to gain access w/out comprising nat'l security

Reasons: Secured Area

15 Buildings

Laughlin AFB

Del Rio TX 78843

Landholding Agency: Air Force

Property Number: 18201220040

Status: Unutilized

Directions: 47, 64, 113, 125, 136, 257, 284, 358, 360, 401, 510, 511, 2024, 8081, 9007

Comments: nat'l security concerns; public access denied & no alternative method to gain access w/out comprising nat'l security

Reasons: Secured Area

6 Buildings

BE Stor Shed

Randolph AFB TX

Landholding Agency: Air Force

Property Number: 18201220043

Status: Underutilized

Directions: B1281, B1282, B1284, B1285, B1286, B1287

Comments: nat'l security concerns; public access denied & no alternative method to gain access w/out comprising nat'l security

Reasons: Secured Area

5 Buildings

Goodfellow AFB

Goodfellow TX 76908

Landholding Agency: Air Force

Property Number: 18201230027

Status: Excess

Directions: 104, 508, 538, 707, 3070

Comments: anti-terrorism & force protection; located w/in restricted area where public access denied & no alternative method to gain access w/out compromising nat'l security

Reasons: Secured Area

B-6283

4810 Camp Bullis

Camp Bullis TX 78257

Landholding Agency: Air Force

Property Number: 18201230028

Status: Unutilized

Comments: located w/in secured area; public access denied & no alternative method to gain access w/out compromising nat'l security

Reasons: Secured Area

7 Buildings

4810 Camp Bullis

Camp Bullis TX 78257

Landholding Agency: Air Force

Property Number: 18201230029

Status: Unutilized

Directions: B5288, 5289, 5290, 5291, 5292, 5293, 5294

Comments: located w/in secured area where public access denied & no alternative method to gain access w/out compromising nat'l security

Reasons: Secured Area

Building 330

291 Flight line

Goodfellow AFB TX 76908

Landholding Agency: Air Force

Property Number: 18201310056

Status: Excess

Comments: secured area; public access denied & no alternative method w/out compromising nat'l security

Reasons: Secured Area

Shop A/M Org. B00054

251 Fourth Ave.

Del Rio TX 78843

Landholding Agency: Air Force

Property Number: 18201310058

Status: Unutilized

Comments: located on military installation; public access denied & no alternative method w/out compromising nat'l security

Reasons: Secured Area

13 Buildings

Sheppard AFB

Sheppard AFB TX 76311

Landholding Agency: Air Force

Property Number: 18201310059

Status: Underutilized

Directions: 527, 528, 596, 690, 691, 692, 693, 776, 790, 791, 792, 793, 794

Comments: secured area; public access denied & no alternative method w/out compromising nat'l security

Reasons: Secured Area

Virginia

Bldg. 1994

Eagle Ave

Hampton VA 23665

Landholding Agency: Air Force

Property Number: 18201220024

Status: Underutilized

Comments: nat'l security concerns; public access denied & no alternative method to gain access w/out comprising nat'l security

Reasons: Secured Area

9 Buildings

Langley AFB

Langley AFB VA 23665

Landholding Agency: Air Force

Property Number: 18201220027

Status: Underutilized

Directions: 1092, 1093, 1094, 1095, 1096, 1097, 1098, 750, 51

Comments: nat'l security concerns; public access denied & no alternative method to gain access w/out comprising nat'l security

Reasons: Secured Area

Washington

4 Buildings

South Taxiway Rd.

Fairchild AFB WA 99011

Landholding Agency: Air Force

Property Number: 18201230010

Status: Underutilized

Directions: 1024,1023,1026,1021

Comments: located w/in the boundary of an active AF installation where public access denied & no alternative method to gain access w/out compromising nat'l security

Reasons: Secured Area

Hanger 1025

200 S. Taxiway I Rd.

Fairchild AFB WA 99011

Landholding Agency: Air Force

Property Number: 18201230024

Status: Underutilized

Comments: located w/in controlled active installation; public access denied & no alternative method w/out compromising nat'l security

Reasons: Secured Area

Wyoming

Bldg. 1200

1105 Wyoming Street

FE Warren AFB WY 82005

Landholding Agency: Air Force

Property Number: 18201230006

Status: Underutilized

Comments: located on restricted military installation; public access denied & no alternative method to gain access w/out compromising nat'l security

Reasons: Secured Area

Bldg. 945

7505 Booker Rd.

Cheyenne WY

Landholding Agency: Air Force

Property Number: 18201230062

Status: Unutilized

Comments: located in a secured area; public access denied & no alternative method to gain access w/out compromising nat'l security

Reasons: Secured Area

3 Buildings

FE Warren AF

Cheyenne WY 82005

Landholding Agency: Air Force

Property Number: 18201240020

Status: Unutilized

Directions: 1166, 2277, 835

Comments: restricted area; public access denied & no alternative method to gain access w/out compromising nat'l security

Reasons: Secured Area

Florida

8 Buildings

null

Tyndall AFB FL 32403

Landholding Agency: Air Force

Property Number: 18201310011

Status: Underutilized

Directions: 205, 207, 214, 748, 1277, 1279, 1280, 1476

Comments: restricted military installation; public access denied & no alternative method to gain access w/out compromising nat'l security

Reasons: Secured Area

[FR Doc. 2013-06971 Filed 3-28-13; 8:45 am]

BILLING CODE 4210-67-P